DEPARTMENT OF COMMERCE

National Oceanic and Atmospheric Administration

[I.D. 060606C]

Endangered and Threatened Species; Take of Anadromous Fish

AGENCY: National Marine Fisheries Service (NMFS), National Oceanic and Atmospheric Administration (NOAA), Commerce.

ACTION: Issuance of scientific research permits, permit modifications, and withdraw

SUMMARY: Permit 1535 was issued on January 10, 2006. Permits 1533 and 1548 were issued on April 11, 2006. All modifications were issued on February 3, 2006. Application 1550 was withdrawn on December 5, 2005. The research actions and the species they affect are listed in the SUPPLEMENTARY INFORMATION section below.

ADDRESSES: The permits, permit applications, and related documents are available for review during business hours by appointment at NMFS' Protected Resources Division, F/NWO3, 1201 NE Lloyd Blvd., Suite 1100, Portland, OR 97232-1274 (ph: 503-230-5400, fax: 503-230-5441).

FOR FURTHER INFORMATION CONTACT: Garth Griffin, Portland, OR (phone: 503-231-2005, fax: 503-230-5441, e-mail: Garth.Griffin@noaa.gov).

SUPPLEMENTARY INFORMATION:

Authority

The ESA requires that permits, modifications, and amendments be issued based on findings that such actions: (1) Are applied for in good faith; (2) would not operate to the disadvantage of the listed species that are the subject of the actions; and (3) are consistent with the purposes and policies set forth in section 2 of the ESA. Authority to take listed species is subject to conditions set forth in the permits. Permits, modifications, and amendments are issued in accordance with, and are subject to, the ESA and NMFS' regulations governing listed fish and wildlife permits (50 CFR parts 222-226).

Species Covered in this Notice

The ESA-listed species/evolutionarily significant units (ESUs) covered by this notice are identified below and listed in the subsequent table by the numbers that precede each of them in the following text:

(1) Threatened Lower Columbia River (LCR) steelhead (Oncorhynchus mykiss)

(2) Threatened LCR coho salmon (O. kisutch)

(3) Threatened Puget Sound Chinook salmon (O. tshawytscha)

(4) Endangered Upper Columbia River (UCR) Chinook salmon (O. tshawytscha)

(5) Threatened UCR steelhead (O. mykiss)

(6) Threatened Middle Columbia River (MCR) steelhead (O. mykiss)

(7) Threatened Snake River (SR) spring/summer Chinook salmon (O. tshawytscha)

(8) Threatened SR fall Chinook salmon (O. tshawytscha)

Table 1. Twenty-two Scientific Research Permit Actions Affecting Listed Pacific Salmonids
Permit Number | Affected Species/ESUs | Permittee | FEDERAL REGISTER Notice of Application Receipt
1252M1 | 2 | Washington Department of Transportation | October 12, 2005 (70 FR 59318)
1290M2 | 2 | Northwest Fisheries Science Center (NWFSC) | October 12, 2005 (70 FR 59318)
1318M2 | 2 | Oregon Department of Fish and Wildlife | October 12, 2005 (70 FR 59318)
1322M4 | 2 | NWFSC | October 12, 2005 (70 FR 59318)
1330M1 | 1,2 | Weyerhaeuser Company | October 12, 2005 (70 FR 59318)
1338M2 | 2 | U.S. Fish and Wildlife Service (USFWS) | October 12, 2005 (70 FR 59318)
1376M2 | 1 | Washington Cooperative Fish and Wildlife Research Unit, University of Washington | January 6, 2006 (71 FR 916)
1379M1 | 2 | Columbia River Intertribal Fish Commission | October 12, 2005 (70 FR 59318)
1386M1 | 2 | Washington Department of Ecology | October 12, 2005 (70 FR 59318)
1410M3 | 2 | NWFSC | October 12, 2005 (70 FR 59318)
1421M1 | 2 | USFWS | October 12, 2005 (70 FR 59318)
1427M1 | 2 | Oregon Department of Environmental Quality | October 12, 2005 (70 FR 59318)
1461M1 | 2 | U.S. Geological Survey (USGS) | October 12, 2005 (70 FR 59318)
1478M1 | 2 | USGS | October 12, 2005 (70 FR 59318)
1479M2 | 2 | USGS | October 12, 2005 (70 FR 59318)
1484M1 | 2 | Washington Department of Natural Resources | October 12, 2005 (70 FR 59318)
1487M1 | 2 | USFWS | October 12, 2005 (70 FR 59318)
1519M1 | 2 | Columbia River Estuary Study Taskforce | October 12, 2005 (70 FR 59318)
1525M1 | 2 | NWFSC | October 12, 2005 (70 FR 59318)
1533 | 7,8 | Washington Department of Fish and Wildlife | August 23, 2005 (70 FR 49262)
1535 | 3 | R2 Resource Consultants | July 26, 2005 (70 FR 43128)
1548 | 4,5,6 | Yakima Training Center - U.S. Army | August 23, 2005 (70 FR 49262)

It should also be noted that permit application 1550, noticed on October 12, 2005 (70 FR 59318) was withdrawn by the applicant.

Dated: June 13, 2006.
Angela Somma,
Chief, Endangered Species Division, Office of Protected Resources, National Marine Fisheries Service.

[FR Doc. E6-9495 Filed 6-16-06; 8:45 am]

BILLING CODE 3510-22-S